ENVIRONMENTAL PROTECTION AGENCY

[OPP-2004-0279; FRL-7684-9]

National Agricultural Workers Pesticide Safety Training and Education Program; Notice of Funds Availability

AGENCY: Environmental Protection Agency (EPA).

ACTION: Notice.

SUMMARY: EPA's Office of Pesticide Programs (OPP) is soliciting proposals from eligible parties for an EPA cooperative agreement to provide financial assistance to an eligible organization to continue an effort to conduct a national train-the-trainer program to educate farmworkers about how to reduce risks from pesticides. As part of this program the grantee will train pesticide safety educators who will work with farmworker service organizations, growers, and other members of the agricultural community in key rural areas with high pesticide use and large numbers of farmworkers conducting pesticide safety programs for agricultural workers and their families. The total funding available for award in FY 2005, which represents funding set aside in FY 2004, is expected to be approximately $400,000. At the conclusion of the first 1 year period of performance and, based on the availability of future funding, incremental funding of up to $400,000 may be made available for each year allowing the project to continue for a total of five periods of performance (approximately 5 years) and with a total potential funding of up to $2,000,000 for the 5-year period, depending on need and the Agency budget in outlying years.

DATES: Applications must be received on or before January 18, 2005.

ADDRESSES: Applications, may be submitted by mail, fax, or electronically. Please follow the detailed instructions provided in Unit IV. of the SUPPLEMENTARY INFORMATION.

FOR FURTHER INFORMATION CONTACT: Carol Parker, Field and External Affairs Division (7506C), Office of Pesticide Programs, Environmental Protection Agency, 1200 Pennsylvania Ave., NW., Washington, DC 20460-0001; telephone number: (703) 305-6458; fax number: (703) 308-2962; e-mail address: parker.carol@epa.gov.

SUPPLEMENTARY INFORMATION: The following listing provides certain key information concerning the funding opportunity.

• Federal agency name: Environmental Protection Agency (EPA).

• Funding opportunity title: National Agricultural Workers Pesticide Safety Training and Education Program.

• Funding opportunity number: OPP-001.

• Announcement type: The initial announcement of a funding opportunity.

• Catalog of Federal Domestic Assistance (CFDA) number: This program is included in the Catalog of Federal Domestic Assistance under number 66.716 at http://www.cfda.gov/public/whole.pdf.

• Dates: Applications must be received by EPA on or before January 18, 2005.

I. Funding Opportunity Description

A. Authority

EPA expects to enter into cooperative agreements under the authority provided in FIFRA section 20 which authorizes the Agency to issue grants or cooperative agreements for research, public education, training, monitoring, demonstration and studies. Regulations governing these cooperative agreements are found at 40 CFR part 30 for institutions of higher education, colleges and universities, and non-profit organizations; and 40 CFR part 31 for States and local governments. In addition, the provisions in 40 CFR part 32, governing government wide debarment and suspension; and the provisions in 40 CFR part 34, regarding restrictions on lobbying apply. All costs incurred under this program must be allowable under the applicable OMB Cost Circulars: A-87 (States and local governments), A-122 (nonprofit organizations), or A-21 (universities). Copies of these circulars can be found at http://www.whitehouse.gov/omb/circulars. In accordance with EPA policy and the OMB circulars, as appropriate, any recipient of funding must agree not to use assistance funds for lobbying, fund-raising, or political activities (e.g., lobbying members of Congress or lobbying for other Federal grants, cooperative agreements or contracts). See 40 CFR part 34.

B. Program Description

1. Purpose and scope. EPA's Certification and Worker Protection Branch of the Field and External Affairs Division, Office of Pesticide Programs (OPP), is requesting proposals to train farmworkers, farmworker families, and the agricultural community regarding the potential hazards associated with pesticide chemicals and how to reduce those risks.

Under this new cooperative agreement, experience and/or expertise is critical to conduct worker protection pesticide safety training and education program for the unique population of farmworkers, including: A comprehensive, national training and outreach pesticide safety education program for farmworkers; an ability to conduct specialized training for Spanish speaking agricultural workers and their families with low literacy levels; qualified managers and staff devoted to training farmworkers about pesticide hazards; offices with pesticide safety programs and trainers in rural communities near agricultural areas with high farmworker populations; and full-time trainers whose primary responsibility is to train farmworkers about pesticide safety.

2. Activities to be funded. EPA will award a cooperative agreement for the National Agricultural Workers Pesticide Safety Training and Education Program under section 20 of FIFRA, as amended, for the continuation of a public training and education pesticide safety program of farmworkers, farmworker families, and other members of the agricultural community to reduce exposure to the hazards of pesticides. Key activities to be funded under this cooperative agreement are:

i. Training of at least 14,000 farmworkers, farmworker families, and other members of the agricultural community each year in the key pesticide safety provisions of the Worker Protection Standard (WPS), 40 CFR 170.130.

ii. Development or utilization of a pesticide safety training program, including trainers and materials, which address the predominately Spanish speaking, low literacy level needs of agricultural workers.

iii. Development and/or utilization of WPS approved pesticide safety curricula and materials for agricultural workers. The curriculum and materials would convey as a minimum the following information:

• Where and in what form pesticides may be encountered during work activities.

• Hazards of pesticides resulting from toxicity and exposure, including acute and chronic effects, delayed effects, and sensitization.

• Routes through which pesticides can enter the body.

• Signs and symptoms of pesticide poisoning.

• Emergency first aid for pesticide injuries or poisonings.

• How to obtain emergency medical care.

• Routine and emergency decontamination procedures, including eye flushing techniques.

• Hazards from pesticide residues on clothing.

• Warnings about taking pesticide containers home.

• Requirements of the WPS, including reducing the risks of illness or injury resulting from workers' occupational exposure to pesticides, including application and entry restrictions, the design of the warning sign, posting of warning signs, oral warnings, the availability of specific information about applications, and protection against retaliatory acts.

iv. Conducting a national and/or several regional train-the-trainer workshops for a minimum of 30 pesticide safety educators. Workshops would train trainers of farmworkers about the importance of pesticide safety, the curriculum and materials to be used, how to reach farmworkers and work with growers, crew leaders, and other members of the agricultural community to utilize the training, and how to get certified as an official trainer by the state. Workshops would also include practice sessions for trainers.

v. Establishment of pesticide safety training programs in at least 15 local sites in rural areas with a minimum of 12 states including key states with high farmworker populations and high pesticide usage.

vi. Outreach and partnership programs with federal, state and local programs and agencies; farmworker service providers; growers and grower organizations; and other members of the agricultural community to utilize and certify the worker protection pesticide safety program for agricultural workers. While matching funds are not required, they are encouraged to meet the training needs of over 2½ million farmworkers.

vii. Develop or utilize a pesticide safety training evaluation tool like a pre- and post-tests to evaluate the effectiveness of the training program and modify the training to improve it as necessary.

3. Goal and objectives. Under the Federal Insecticide, Fungicide, and Rodenticide Act (FIFRA) (7 U.S.C. 136W), EPA developed the WPS to protect the 2½ million agricultural workers and other members of the public from the hazards of pesticides. Under this standard, workers must receive protections and information to prevent pesticide poisonings. Under this cooperative agreement, EPA seeks to work with organizations that have unique and special skills on reaching agricultural workers, who are predominately Spanish speaking, with low literacy levels, often transient, and difficult to reach through more conventional communications networks.

The objectives of this program would be to develop or continue an interactive training program to educate farmworkers, their families, and other members of the agricultural community about how to protect themselves from pesticides. The training program would be based primarily in Spanish, although parts could include other key languages that farmworkers speak. Information would be presented in an interactive format directed at reaching low literacy populations and in non-traditional settings. The program should be developed to reach farmworkers in key high farmworker rural areas with high pesticide uses and high hand-labor agricultural areas. The pesticide safety training program for agricultural workers could develop new curriculum or utilize national, state or organizational outreach materials. The information to be conveyed should include the requirements outlined in the WPS (40 CFR part 170).

4. History. In August of 1992, EPA's WPS (40 CFR part 170) was published to require actions to reduce the risk of pesticide poisonings and injuries among agricultural workers and pesticide handlers. The WPS offers protections to more than 3½ million agricultural workers who work with pesticides at more than 560,000 workplaces on farms, forests, nurseries, and greenhouses. The WPS contains requirements for pesticide safety training, notification of pesticide applications, use of personal protective equipment, restricted entry intervals following pesticide application, decontamination supplies, and emergency medical assistance.

Since 1995, OPP has provided funding for several research and education programs designed to evaluate and convey pesticide safety information to farmworkers. Since 2000, OPP funded a cooperative agreement, The National Pesticide Education Program for Agricultural Workers and Farmworker Children, that trained full-time educators to teach agricultural workers and their families how to reduce the risks from pesticide hazards. Through this program nearly 350,000 farmworkers, farmworker families, and community members have been trained about how to reduce risks from pesticide hazards. This program has researched and evaluated methods for delivering pesticide safety information to a predominately non-English speaking, low literacy, migrant populations. The program developed a curriculum on pesticide safety and established a program on pesticide safety for agricultural workers, their families and community members. The program trained between 50 and 70 educators yearly about pesticide safety, and education and outreach techniques, which in turn trained about 25,000 farmworkers, farmworker families, and other members of the farmworker community each year.

II. Award Information

The funding for the selected award project is in the form of a cooperative agreement awarded under section 20 of FIFRA. The total funding available for award in FY 2005 represents funding set aside in FY 2004 and is expected to be approximately $400,000. At the conclusion of the first 1 year period of performance, incremental funding of up to $400,000 may be made available for each subsequent year, depending on need and the Agency budget in outlying years, which would allow the project to continue for a total of five periods of performance (approximately 5 years) and totaling up to $2,000,000 for the 5-year period.

Should additional funding become available for award, based on the Agency budget in those outlying years, the Agency may award additional grants based on this solicitation and in accordance with the final selection process, without further notice of competition during the first year of the competition award.

III. Eligibility Information

1. Threshold eligibility factors. To be eligible for consideration, applicants must meet all of the following criteria. Failure to meet the following criteria will result in the automatic disqualification for consideration of the proposal for funding:

i. Be an applicant who is eligible to receive funding under this announcement, including states, U.S. territories or possessions, federally recognized Tribal governments and organizations, public and private universities and colleges, hospitals, laboratories, other public or private nonprofit institutions and individuals. Non-profit organizations described in section 501(c)(4) of the Internal Revenue Code that engage in lobbying activities as defined in section 3 of the Lobbying Disclosure Action of 1995 are not eligible to apply. Eligible applicants may include: Agricultural, environmental, health, and educational organizations and agencies, colleges or universities, and other public or non-profit agencies, authorities, institutions, organizations, individuals or other qualified entities working in agricultural and/or pesticide training, safety, education and communications. Applicants with experience and/or expertise working with farmworkers; farmworker families; agricultural employers; farmworker support organizations; the Cooperative Extension Service; local state, and national agriculture, environment, labor and occupational health, rural and migrant health, and/or education agencies are eligible.

ii. The proposal must address all of the criteria in the high priority areas for consideration listed under Unit III.2.

iii. The proposal must address all of the activities to be funded listed under Unit I.B.2.

iii. The proposal must meet all format and content requirements contained in Unit IV.

The proposal must comply with the directions for submittal contained in this notice.

2. Eligibility criteria. Applicants must demonstrate ability, experience and/or expertise in working with providing pesticide safety education to the unique population of farmworkers in the following high priority areas for consideration. Applicants will be evaluated on the following criteria:

i. Expertise in language and literacy needs of farmworkers. Applicant must have expertise in providing education, training, and other services to the needs of the farmworker population. Since the farmworker population has an average educational levels of only the sixth grade, applicants must demonstrate expertise in reaching low literacy level populations. Also, since 84% of farmworkers speak Spanish, applicants must demonstrate an ability to present pesticide safety information in Spanish.

ii. Ability to provide comprehensive pesticide safety program for farmworkers, farmworker families, and agricultural community members. Applicants must demonstrate the capacity of providing comprehensive worker training including key pesticide safety information, as outlined in the WPS, 40 CFR 170.130.

iii. Extensive outreach strategies to farmworkers and rural communities. Applicants must develop extensive outreach strategies that include areas where farmworkers work and reside. Provisions to train farmworkers and their families in labor camps, work sites on growers' property, in community centers, in churches, migrant health clinics, in schools, and farmworker employment and training offices. In addition, applicants must have the ability to conduct outreach programs with growers and small farmers and work with them to deliver pesticide training programs to their workers.

iv. National network of offices in at least 15 agricultural areas with high farmworker populations in at least 12 states. Since farmworkers live and work in hard to reach rural areas, applicants must describe how the training program would work with affiliate farmworker support offices in those 15 or more agricultural areas in close proximity to farmworkers in at least 12 states.

v. Broad educational program with over 30 outreach trainers in pesticide safety. Applicants must demonstrate that they have experience conducting effective pesticide safety education and training for farmworkers and a comprehensive curriculum for reaching farmworkers about pesticide safety. Applicants must have a staff of at least 30 full-time outreach workers whose main job is training farmworkers to prevent exposure to pesticides.

vi. Ability to train a minimum of 14,000 farmworkers each year about pesticide safety. Since there are approximately 2½ million farmworkers and 20% of these are new workers who enter the U.S. agricultural workforce every year, the applicant must demonstrate the ability to train at least 14,000 farmworkers a year about pesticide safety measures including minimum criteria outlined in the WPS, 40 CFR 170.130.

3. Cost sharing or matching. There are no cost share requirements for this project. However, matching funds are strongly encouraged in order to train the highest number of farmworkers.

IV. Application and Submission Information

1. Address to request proposal package. Carol Parker, Field and External Affairs Division (7506C), Office of Pesticide Programs, Environmental Protection Agency, 1200 Pennsylvania Ave., NW., Washington, DC 20460-0001; telephone number: (703) 305-6458; fax number: (703) 308-2962; e-mail address: parker.carol@epa.gov.

2. Content and form of application submission. Proposals must be typewritten, double spaced in 12 point or larger print using 8.5 x 11 inch paper with minimum 1 inch horizontal and vertical margins. Pages must be numbered in order starting with the cover page and continuing through the appendices. One original and one electronic copy (e-mail or disk) is required.

All proposals must include:

• Completed Standard Form SF 424*, Application for Federal Assistance. Please include organization fax number and e-mail address. The application forms are available on line at http://www.epa.gov/ogd/grants/how_to_apply.htm.

• Completed Section B--Budget Categories, on page 1 of Standard Form SF 424A* (see allowable costs discussion below). Blank forms may be located at http://www.epa.gov/ogd/grants/how_to_apply.htm.

• Detailed itemization of the amounts budgeted by individual Object Class Categories (see allowable costs discussion below).

• Statement regarding whether this proposal is a continuation of a previously funded project. If so, please provide the assistance number and status of the current grant/cooperative agreement.

Executive Summary. The Executive Summary shall be a stand alone document, not to exceed one page, containing the specifics of what is proposed and what you expect to accomplish regarding measuring or movement toward achieving project goals. This summary should identify the measurable environmental results you expect including potential human health benefits.

Table of contents. A one page table listing the different parts of your proposal and the page number on which each part begins. Proposal narrative. Includes Parts I-V as identified below (not to exceed 10 pages).

Part I--Project title. Self explanatory.

Part II--Objectives. A numbered list (1, 2, etc.) of concisely written project objectives, in most cases, each objective can be stated in a single sentence.

Part III--Justification. For each objective listed in Part II, discuss the potential outcome in terms of human health, environmental and/or pesticide risk reduction.

Part IV--Approach and methods. Describe in detail how the program will be carried out. Describe how the system or approach will support the program goals.

Part V--Impact assessment. Please state how you will evaluate the success of the program in terms of measurable results. How and with what measures will humans be better protected as a result of the program. Quantifiable risk reduction measures should be described.

Appendices. These appendices must be included in the cooperative agreement proposal. Additional appendices are not permitted.

Timetable. A timetable that includes what will be accomplished under each of the objectives during the project and when completion of each objective is anticipated.

Major participants. List all affiliates or other organizations, educators, trainers and others having a major role in the proposal. Provide name, organizational affiliation, or occupation and a description of the role each will play in the project. A brief resume (not to exceed two pages) should be submitted for each major project manager, educator, support staff, or other major participant.

3. Submission dates and times. You may submit an application through the mail, by fax, or electronically. Regardless of submission method, all applications must be received by EPA on or before January 18, 2005.

4. Intergovernmental Review. Applicants should be aware that formal requests for assistance (i.e., SF 424 and associated documentation) may be subject to intergovernmental review under Executive Order 12372, “Intergovernmental Review of Federal Programs.” Applicants should contact their state's single point of contact (SOC) for further information. There is a list of these contacts at the following web site: http:/whitehouse.gov/omb/grants/spoc.html.

5. Funding restrictions. EPA grant funds may only be used for the purposes set forth in the cooperative agreement, and must be consistent with the statutory authority for the award. Cooperative agreement funds may not be used for matching funds for other Federal grants, lobbying, or intervention in Federal regulatory or adjudicatory proceedings. In addition, federal funds may not be used to sue the federal government or any other governmental entity. All costs identified in the budget must conform to applicable Federal Cost Principles contained in OMB Circular A-87; A-122; and A-21, as appropriate.

6. Other submission requirements. As indicated above, each application must include the original paper copy of the submission, along with one electronic copy. The electronic copy of your application package, whether submitted separately by e-mail or on a disk, please ensure that the electronic copy is consolidated into a single file, and that you use Word Perfect WP8/9 for Windows, or Adobe PDF 4/5. If mailing a disk, please use a 3.5 disk that is labeled as a proposal for the National Agricultural Workers Pesticide Safety Training and Education Program, and include your pertinent information. Please check your electronic submissions to ensure that it does not contain any computer viruses. If an electronic submission is found to contain a virus, that submission will be disqualified from consideration.

Submit your application using one of the following methods:

By mail to: Carol Parker, Office of Pesticide Programs, Mail code: 7506C, Environmental Protection Agency, 1200 Pennsylvania Ave., NW., Washington, DC 20460.

By fax to: Carol Parker at fax number: (703) 308-2962.

By e-mail to: parker.carol@epa.gov.

7. Confidential business information. Applicants should clearly mark information contained in their proposal which they consider confidential business information. EPA reserves the right to make final confidentiality decisions in accordance with Agency regulations at 40 CFR part 2, subpart B. If no such claim accompanies the proposal when it is received by EPA, it may be made available to the public by EPA without further notice to the applicant.

V. Application Review Information

Applicants will be screened to ensure that they meet all eligibility criteria and will be disqualified if they do not meet all eligibility criteria. All proposals will be reviewed, evaluated, and ranked by a selected panel of EPA reviewers based on the following evaluation criteria and weights (Total: 100 points):

1. Project proposal must meet minimum requirements for the number of full-time trainers, number of locations, and number of workers trained, as outlined in Unit III.2. (Weighting: 35 points)

2. Project proposal must provide information on the education, skills, training of the project leader and/or other key managers. As appropriate, cite technical qualifications and specific examples of prior, relevant experience. Demonstrate experience and/or ability of organization to conduct national pesticide safety education and training programs for agricultural workers as outlined in Unit III.2. (Weighting: 30 points)

3. Qualification and experience of the applicant relative to the language, low literacy, and outreach to the farmworker community, as outlined in Unit III.2. (Weighting: 25 points)

4. Provisions for a quantitative or qualitative evaluation of the project success at achieving stated goals Unit III.2. (Weighting: 10 points)

The proposals will be reviewed and evaluated by a team of internal EPA Worker Protection and Pesticide Safety Training experts. The final funding decision will be made from a group of top rated proposals by the Chief of the Certification and Worker Protection Branch, Field and External Affairs Division, Office of Pesticide Programs. The Agency reserves the right to reject all proposals and make no awards. The procedures for dispute resolution at 40 CFR 30.63 and 40 CFR 31.70 apply.

VI. Award Administration Information

1. Award notices. The Certification and Worker Protection Branch in OPP will mail an acknowledgment to applicants upon receipt of the application. Once all of the applications have been reviewed, evaluated, and ranked, applicants will be notified of the outcome of the competition. A listing of the successful proposal will be posted on the Certification and Worker Protection website address at the conclusion of the competition (go to: http://www.epa.gov/pesticides/health/worker.htm). The website may also contain additional information about this announcement including information concerning deadline extensions or other modifications.

2. Administrative and national policy requirements. An applicant whose proposal is selected for federal funding must complete additional forms prior to award (see 40 CFR 30.12 and 31.10), and will be required to certify that they have not been debarred or suspended from participation in federal assistance awards in accordance with 40 CFR part 32.

3. Reporting. The successful recipient will be required to submit quarterly and annual reports, and to submit annual financial reports. The specific information contained within the report will include at a minimum, a comparison of actual accomplishments to the objectives established for the period. The Certification and Worker Protection Branch may request additional information relative to the scope of work in the cooperative agreement and which may be useful for Agency reporting under the Government Performance and Results Act.

VII. Agency Contact

Carol Parker, Field and External Affairs Division (7506C), Office of Pesticide Programs, Environmental Protection Agency, 1200 Pennsylvania Ave., NW., Washington, DC 20460-0001; telephone number: (703) 305-6458; fax number: (703) 308-2962; e-mail address: parker.carol@epa.gov.

VIII. Other Information

A. Does this Action Apply to Me?

This action is directed to the public in general. Assistance is generally available to States, U. S. territories or possessions, federally recognized Tribal governments and organizations, public and private universities and colleges, hospitals, laboratories, other public or private nonprofit institutions and individuals. Non-profit organizations described in section 501(c)(4) of the Internal Revenue Code that engage in lobbying activities as defined in section 3 of the Lobbying Disclosure Action of 1995 are not eligible to apply. This program may, however, be of particular interest to farmworker and agricultural workers support organizations and agencies; environmental, health, and educational organizations and agencies; colleges or universities, and other public or non-profit agencies, authorities, institutions, organizations, individuals or other qualified entities working in agricultural training, safety, education and communications. Because others may also be interested, the Agency has not attempted to describe all the specific entities that may be interested by this action. If you have any questions regarding the applicability of this action to a particular entity, consult the person listed under FOR FURTHER INFORMATION CONTACT.

B. How Can I Access Copies of this Document and Other Related Information?

1. Docket. EPA has established an official public docket for this action under docket identification (ID) number OPP-2004-0279. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in the Unit IV.A.1. Once in the system, select “search,” then key in the appropriate docket ID number.

IX. Submission to Congress and the Comptroller General

Grant solicitations such as this are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to its publication in the Federal Register. This rule is not a “major rule” as defined by 5 U.S.C. 804(2).

List of Subjects

Environmental protection, Grants, Pesticides, Training.

Dated: November 18, 2004.
Margaret Schneider,
Acting Assistant Administrator, Office of Prevention, Pesticides and Toxic Substances.

[FR Doc. 04-26397 Filed 11-30-04; 8:45 am]

BILLING CODE 6560-50-S